DEPARTMENT OF HOMELAND SECURITY

[DHS Docket No. ICEB- 2013-0001]

RIN 1653-ZA10

Extension of and Addition to Employment Authorization for Syrian F-1 Nonimmigrant Students Experiencing Severe Economic Hardship as a Direct Result of Civil Unrest in Syria Since March 2011

AGENCY: U.S. Immigration and Customs Enforcement (ICE), DHS.

ACTION: Notice.

SUMMARY: This notice informs the public of the extension of and addition to an earlier notice, which suspended certain requirements for F-1 nonimmigrant students whose country of citizenship is Syria and who are experiencing severe economic hardship as a direct result of the civil unrest in Syria since March 2011. This notice extends the effective date of that notice and expands the application of such suspension to students whose country of citizenship is Syria and who lawfully obtained F-1 nonimmigrant student status between the date of the original notice and September 9, 2016.

DATES: This notice is effective September 9, 2016 and will remain in effect until March 31, 2018.

FOR FURTHER INFORMATION CONTACT: Louis Farrell, Director, Student and Exchange Visitor Program, MS 5600, U.S. Immigration and Customs Enforcement, 500 12th Street SW., Washington, DC 20536-5600; email: sevp@ice.dhs.gov, telephone: (703) 603-3400. This is not a toll-free number. Program information can be found at http://www.ice.gov/sevis/.

SUPPLEMENTARY INFORMATION:

What action is DHS taking under this notice?

The Secretary of Homeland Security is exercising his authority under 8 CFR 214.2(f)(9) to extend the suspension of the applicability of certain requirements governing on-campus and off-campus employment for F-1 nonimmigrant students whose country of citizenship is Syria and who are experiencing severe economic hardship as a direct result of the civil unrest in Syria since March 2011. See 77 FR 20038 (April 3, 2012). This notice also suspends these same regulatory requirements for students whose country of citizenship is Syria and who lawfully obtained F-1 nonimmigrant student status between the date of the original notice and September 9, 2016. The original notice was effective from April 3, 2012 until October 3, 2013. A subsequent notice provided for an 18-month extension from October 3, 2013, through March 31, 2015. See 78 FR 36211 (June 17, 2013). A third notice provided another 18-month extension from March 31, 2015, through September 30, 2016. See 80 FR 232 (January 5, 2015). Effective with this publication, suspension of the employment limitations is extended for 18 months from September 30, 2016, until March 31, 2018. This publication also suspends the applicability of the same regulatory requirements in 8 CFR 214.2(f)(9) for students who meet the requirements contained in the notice below as of September 9, 2016.

F-1 nonimmigrant students granted employment authorization through the notice will continue to be deemed to be engaged in a “full course of study” for the duration of their employment authorization, provided they satisfy the minimum course load requirement described in 77 FR 20038. See 8 CFR 214.2(f)(6)(i)(F).

Who is covered under this action?

This notice applies exclusively to F-1 nonimmigrant students whose country of citizenship is Syria and who were lawfully present in the United States in F-1 nonimmigrant status on or after April 3, 2012, through September 9, 2016 under section 101(a)(15)(F)(i) of the Immigration and Nationality Act (INA), 8 U.S.C. 1101(a)(15)(F)(i); and are—

(1) Enrolled in an institution that is Student and Exchange Visitor Program (SEVP)-certified for enrollment of F-1 students,

(2) Currently maintaining F-1 status, and

(3) Experiencing severe economic hardship as a direct result of the ongoing civil unrest in Syria since March 2011.

ICE records show that as of August 2016, there are approximately 700 Syrian F-1 Visa holders in active status who would be covered by this notice. This notice applies to both undergraduate and graduate students, as well as elementary school, middle school, and high school students. The notice, however, applies differently to elementary school, middle school, and high school students (see the discussion published at 77 FR 20040, available at http://www.gpo.gov/fdsys/pkg/FR-2012-04-03/pdf/2012-7960.pdf, in the question, “Does this notice apply to elementary school, middle school, and high school students in F-1 status?”).

F-1 students covered by this notice who transfer to other academic institutions that are SEVP-certified for enrollment of F-1 students remain eligible for the relief provided by means of this notice.

Why is DHS taking this action?

The Department of Homeland Security (DHS) took action to provide temporary relief to F-1 nonimmigrant students whose country of citizenship is Syria and who experienced severe economic hardship because of the civil unrest in Syria since March 2011. See 77 FR 20038 (April 3, 2012). It enabled these F-1 students to obtain employment authorization, work an increased number of hours while school was in session, and reduce their course load, while continuing to maintain their F-1 student status. In June 2013 and again in January 2015, DHS acknowledged that the the civil unrest in Syria continued to affect Syria's citizens, with many people still displaced as a result. DHS extended the application of the original April 3, 2012, notice through September 30, 2016, to continue to provide temporary relief to Syrian F-1 students who experienced severe economic hardship as a result of the conflict. Despite DHS's determination that the civil conflict in Syria continued well beyond the October 3, 2013 expiration date of the original notice, previous extensions of the original notice did not make temporary relief available to Syrian F-1 students who became lawfully present in the United States in F-1 nonimmigrant status after April 3, 2012.

The conflict in Syria continues to affect the physical and economic security of its citizens. Syria is experiencing ongoing civil unrest, resulting in the continuing displacement of massive numbers of its citizens. As of October 2015, a United Nations report indicated that approximately 6.5 million Syrians were internally displaced. A number of violent extremist groups have factored prominently in the conflict and pose a danger to civilians. Various radical Islamist organizations have been actively engaged in armed resistance in Syria. In early 2014, the Islamic State of Iraq and the Levant (ISIL) emerged as one of the most significant radical Islamist fighting forces. The al-Nusra Front (also known as Jabhat Fateh al-Sham and/orJabhat al Nusra) represents the interests of al-Qaeda in Syria. These jihadist groups have engaged in indiscriminate attacks including bombings and suicide attacks throughout Syria. Most recently on March 17, 2016, U.S. Secretary of State John Kerry declared that ISIL had committed acts of genocide against groups of people living in areas of Syria under ISIL control, including Yezidis, Christians, and Shia Muslims.

Furthermore, various aspects of the conflict including economic sanctions imposed by the international community have negatively affected the entire Syrian economy. A report published by the Syrian Center for Policy Research, referenced by a publication from the Carnegie Middle East Center in Beirut, indicated that by the end of 2014, 82% of Syrian people lived in poverty, and the country had an unemployment rate of 58%. The report also estimated that 877,000 people in Syria became poor in part due to economic sanctions. As of December 2014, the World Bank determined that the conflict in Syria significantly damaged public and private assets, with Syria's GDP having declined an average of 15.4%. The World Bank also assessed that inflation increased by almost 90% in 2013 and further increased an average of 29% in 2014. Given the conditions in Syria, affected students whose primary means of financial support come from Syria may need to be exempt from the normal student employment requirements to be able to continue their studies in the United States and meet basic living expenses.

The United States is committed to continuing to assist the people of Syria. DHS is therefore extending this employment authorization for F-1 nonimmigrant students whose country of citizenship is Syria and who are continuing to experience severe economic hardship as a result of the civil unrest since March 2011, including those who became lawfully present in F-1 nonimmigrant status between April 3, 2012, and September 9, 2016.

How do I apply for an employment authorization under the circumstances of this notice?

F-1 nonimmigrant students whose country of citizenship is Syria who were lawfully present in the United States on or after April 3, 2012, through September 9, 2016, and are experiencing severe economic hardship because of the civil unrest, may apply for employment authorization under the guidelines described in 77 FR 20038. This notice extends the time period during which such F-1 students may seek employment authorization due to the civil unrest. It does not impose any new or additional policies or procedures beyond those listed in the original notice. All interested F-1 students should follow the instructions listed in the original notice.

Jeh Charles Johnson,
Secretary.

[FR Doc. 2016-21525 Filed 9-8-16; 8:45 am]

BILLING CODE 9111-28-P